FEDERAL COMMUNICATIONS COMMISSION

47 CFR Part 73

[DA 01-133; MM Docket No. 01-12, RM-10039]

Radio Broadcasting Services; Arthur, ND

AGENCY: Federal Communications Commission.

ACTION: Proposed rule.

SUMMARY: The Commission requests comments on a petition filed by Vision Media Incorporated requesting the substitution of Channel 280A for Channel 244A at Arthur, North Dakota, and the modification of Station's WVMI(FM)'s license accordingly. Channel 280A can be allotted at Arthur in compliance with the Commission's minimum distance separation requirements with a site restriction of 6.35 kilometers (3.96 miles) west at petitioner's presently authorized site. The coordinates for Channel 280A at Arthur are 47-05-42 North Latitude and 97-18-01 West Longitude. Since Arthur is located within 320 kilometers (200 miles) of the U.S.-Canadian border, Canadian concurrence has been requested. We will not accept competing expressions of interest for the use of Channel 280A at Arthur, North Dakota, because the Commission's Rules do not contemplate the filing of expressions of interest in proceedings which seek to make equivalent channel substitutions.

DATES: Comments must be filed on or before March 12, 2001, reply comments on or before March 27, 2001.

ADDRESSES: Federal Communications Commission, Washington, DC 20554. In addition to filing comments with the FCC, interested parties should serve the petitioner, or its counsel or consultant, as follows: Harry C. Martin, Esq., Fletcher, Heald & Hildreth, P.L.C., 1300 North 17th Street, 11th Floor, Arlington, Virginia 22209-3801 (Counsel for Petitioner).

FOR FURTHER INFORMATION CONTACT: Sharon P. McDonald, Mass Media Bureau, (202) 418-2180.

SUPPLEMENTARY INFORMATION: This is a synopsis of the Commission's Notice of Proposed Rule Making, MM Docket No. 01-12, adopted January 10, 2001, and released January 19, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 01-2750 Filed 1-31-01; 8:45 am]

BILLING CODE 6712-01-P